ENVIRONMENTAL PROTECTION AGENCY

40 CFR Part 52

[EPA-R04-OAR-2008-0592(b); FRL-8937-1]

Approval and Promulgation of Air Quality Implementation Plans; Alabama: Birmingham 1997 8-Hour Ozone Contingency Measures

AGENCY: Environmental Protection Agency (EPA).

ACTION: Proposed rule.

SUMMARY: EPA is proposing to approve revisions to the Alabama State Implementation Plan (SIP), submitted by the Alabama Department of Environmental Management (ADEM), on February 6, 2008, to adopt specific contingency measures in the form of permit conditions for two cement kilns. These contingency measures are being adopted for the continued maintenance of the 1997 8-hour ozone National Ambient Air Quality Standards (NAAQS) in Jefferson and Shelby Counties (“Birmingham Area”). On May 12, 2006, EPA approved the 8-hour ozone redesignation of the Birmingham Area from nonattainment to attainment for the 1997 8-hour ozone NAAQS (see, 71 FR 27631). Additional measures may be necessary in the future; however, these revisions qualify as contingency measures as required under Section 175A(d) of the Clean Air Act (CAA).

DATES: Written comments must be received on or before August 31, 2009.

ADDRESSES: Submit your comments, identified by Docket ID No. EPA-R04-OAR-2008-0592 by one of the following methods:

1. http://www.regulations.gov: Follow the online instructions for submitting comments.

2. E-mail: benjamin.lynorae@epa.gov.

3. Fax: (404) 562-9019.

4. Mail: “EPA-R04-OAR-2008-0592,” Regulatory Development Section, Air Planning Branch, Air, Pesticides and Toxics Management Division, U.S. Environmental Protection Agency, Region 4, 61 Forsyth Street, SW., Atlanta, Georgia 30303-8960.

5. Hand Delivery or Courier: Ms. Lynorae Benjamin, Chief, Regulatory Development Section, Air Planning Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 to 4:30, excluding Federal holidays.

Please see the direct final rule which is located in the Rules section of this Federal Register for detailed instructions on how to submit comments.

FOR FURTHER INFORMATION CONTACT: Ms. Stacy Harder, Regulatory Development Section, Air Planning Branch, Air, Pesticides and Toxics Management Division, U.S. Environmental Protection Agency, Region 4, 61 Forsyth Street, SW., Atlanta, Georgia 30303-8960. Ms. Harder may be reached by phone at (404) 562-9042, or by electronic mail at harder.stacy@epa.gov. For information relating to the Alabama State SIP, please contact Mr. Zuri Farngalo. Mr. Farngalo may be reached at (404) 562-9152, or by electronic mail at farngalo.zuri@epa.gov.

SUPPLEMENTARY INFORMATION: When the Birmingham Area was redesignated to attainment, Alabama was also required to submit a maintenance plan which provided for contingency measures should the Area violate the standard after being redesignated to attainment. The May 12, 2006, maintenance plan was designed to keep the Birmingham Area in attainment through 2017, initially, with a later extension of the maintenance plan to include a time period of no less than 20 years after the Area was redesignated originally. After attaining the 1997 8-hour ozone standard based on 2003-2005 ambient air monitoring data, the Birmingham Area violated the standard with 2004-2006 ambient air monitoring data. The February 6, 2008, SIP revision, provided by Alabama for EPA approval, was submitted to fulfill ADEM's commitment to adopt, within 18 months of a violation of the 1997 8-hour ozone standard, one or more contingency measures to help the Area re-attain the standard. EPA is proposing to approve the revisions pursuant to section 110 of the CAA. On March 27, 2008, EPA issued a revised ozone standard (see, 73 FR 16436). Today's action however, is being taken to address requirements under the 1997 8-hour ozone standard.

In the Final Rules Section of this Federal Register, EPA is approving the State's SIP revision as a direct final rule without prior proposal because the Agency views this as a noncontroversial submittal and anticipates no adverse comments. A detailed rationale for the approval is set forth in the direct final rule. If no adverse comments are received in response to this rule, no further activity is contemplated. If EPA receives adverse comments, the direct final rule will be withdrawn and all public comments received will be addressed in a subsequent final rule based on this proposed rule. EPA will not institute a second comment period on this document. Any parties interested in commenting on this document should do so at this time.

For additional information see the direct final rule which is published in the Rules Section of this Federal Register.

Dated: July 16, 2009.
J. Scott Gordon,
Acting Regional Administrator, Region 4.

[FR Doc. E9-18028 Filed 7-29-09; 8:45 am]

BILLING CODE 6560-50-P